DEPARTMENT OF HEALTH AND HUMAN SERVICES

Food and Drug Administration

Best Practices for Reducing Transfusion Errors; Public Workshop

AGENCY: Food and Drug Administration, HHS.

ACTION: Notice of public workshop.

The Food and Drug Administration (FDA) is announcing the following public workshop: Best Practices for Reducing Transfusion Errors. The purpose of the public workshop is to discuss practices and techniques that may decrease transfusion errors, including systems and technology that can be applied to reducing transfusion errors.

Date and Time: The public workshop will be held on February 14, 2002, from 8:30 a.m. to 5 p.m., and February 15, 2002, from 8:30 a.m. to 12:30 p.m.

Location: The public workshop will be held at the Natcher Conference Center, National Institutes of Health, Bldg. 45, 45 Center Dr., 8600 Rockville Pike, Bethesda, MD.

Contact: Joseph Wilczek, Center for Biologics Evaluation and Research (HFM-302), Food and Drug Administration, 1401 Rockville Pike, Rockville, MD 20852-1448, 301-827-6129, FAX 301-827-2843.

Registration: Send registration information (including name, title, firm name, address, telephone, and fax number) to the contact person by February 5, 2002. Onsite registration on a space available basis will begin at 7:30 a.m. on the days of the workshop. There is no registration fee. If you need special accommodations due to a disability, please contact Joseph Wilczek at least 7 days in advance.

Transcripts: Transcripts of the public workshop may be requested in writing from the Freedom of Information Office (HFI-35), Food and Drug Administration, 5600 Fishers Lane, rm. 12A-16, Rockville, MD 20857, approximately 15 working days after the meeting at a cost of 10 cents per page. The public workshop transcript will also be available on the Internet at http://www.fda.gov/cber/minutes/workshop-min.htm.

SUPPLEMENTARY INFORMATION: FDA and the Agency for Healthcare Research and Quality, Department of Health and Human Services, are cosponsoring a public workshop on avoiding errors in transfusion medicine. On the first day of the workshop, topics to be discussed include: Patient and medication identification, errors in manufacturing and testing of blood and blood components, system errors and cultural factors, and the role of product deviation reporting in reducing transfusion errors. The second day of the workshop will address current as well as future technology trends that should help prevent transfusion errors. The public workshop agenda is posted on the Internet at http://www.fda.gov/cber/meetings/trnfsnerr021402.htm.

Dated: January 28, 2002.
Margaret M. Dotzel,
Associate Commissioner for Policy.

[FR Doc. 02-2550 Filed 1-31-02; 8:45 am]

BILLING CODE 4160-01-S